FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 13, 2015.

A. Federal Reserve Bank of Cleveland (Nadine Wallman, Vice President) 1455 East Sixth Street, Cleveland, Ohio 44101-2566:

1. Garth Rex Greer, London, Kentucky, a member of the Greer Family Control Group; to individually acquire voting shares of First National Financial Corporation, and thereby indirectly acquire voting shares of First National Bank, both in Manchester, Kentucky.

B. Federal Reserve Bank of Kansas City (Dennis Denney, Assistant Vice President) 1 Memorial Drive, Kansas City, Missouri 64198-0001:

1. William R. Docking, Arkansas City, Kansas; Thomas R. Docking and Brian T. Docking, both of Wichita, Kansas; to retain voting shares of Docking Bancshares, Inc., and thereby indirectly retain voting shares of Union State Bank, Arkansas City, Kansas, and City Bank & Trust Company, Guymon, Oklahoma.

Board of Governors of the Federal Reserve System, September 22, 2015.
Michael J. Lewandowski,
Associate Secretary of the Board.

[FR Doc. 2015-24369 Filed 9-24-15; 8:45 am]

BILLING CODE 6210-01-P